COMMISSION ON CIVIL RIGHTS

Notice of Public Meetings of the Oklahoma Advisory Committee

AGENCY: U.S. Commission on Civil Rights.

ACTION: Announcement of meeting.

SUMMARY: Notice is hereby given, pursuant to the provisions of the rules and regulations of the U.S. Commission on Civil Rights (Commission) and the Federal Advisory Committee Act (FACA), that the Oklahoma Advisory Committee to the Commission will hold virtual of meetings on Tuesday, May 25, 2021 from 10:00 a.m.-11:00 a.m. (CT). The purpose of the meeting is to review and approve the current draft advisory memorandum on racial disparities and policing in Oklahoma.

The meetings will be held on:

• Tuesday, May 25, 2021, at 10:00 a.m. Central Time

• To join by web conference: https://tinyurl.com/nfm8x798

FOR FURTHER INFORMATION CONTACT: Brooke Peery, DFO, at bpeery@usccr.gov or (202) 701-1376.

SUPPLEMENTARY INFORMATION: These meetings are available to the public through the Webex links above. If joining only via phone callers can expect to incur charges for calls they initiate over wireless lines, according to their wireless plan. The Commission will not refund any incurred charges. Individual who is deaf, deafblind and hard of hearing may also follow the proceedings by first calling the Federal Relay Service at 1-800-877-8339 and providing the Service with the conference call number found through registering at the web link.

Members of the public are entitled to submit written comments; the comments must be received in the regional office within 30 days following the meeting. Written comments may be emailed to Brooke Peery at bpeery@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Oklahoma Advisory Committee link. Persons interested in the work of this Committee are directed to the Commission's website, http://www.usccr.gov, or may contact the Regional Programs Unit at the above phone number or email.

Agenda:

Tuesday, May 25, 2021 (CT)

I. Welcome & Roll Call

II. Approval of Minutes

III. Discussion Memo Draft

IV. Public Comment

V. Adjournment

Dated: May 11, 2021.
David Mussatt,
Supervisory Chief, Regional Programs Unit.

[FR Doc. 2021-10270 Filed 5-14-21; 8:45 am]

BILLING CODE P